DEPARTMENT OF COMMERCE

International Trade Administration

[A-533-843]

Certain Lined Paper Products From India: Final Results of Changed Circumstances Review

AGENCY: Enforcement and Compliance, International Trade Administration, Department of Commerce.

DATES: Effective Date: June 24, 2014.

SUMMARY: On April 18, 2014, the Department of Commerce (the Department) published its notice of preliminary results of a changed circumstances review (CCR) of the antidumping duty order on certain lined paper products from India.¹ The Department preliminarily determined that Navneet Education Limited (Navneet Education) is the successor-in-interest to Navneet Publications (India) Ltd. (Navneet Publications). No parties submitted comments, and for these final results we continue to find that Navneet Education is the successor-in-interest to Navneet Publications.

¹ See Certain Lined Paper Products from India: Preliminary Results of Changed Circumstances Review, 79 FR 21897 (April 18, 2014) (Preliminary Results).

FOR FURTHER INFORMATION CONTACT: Cindy Robinson or Eric B. Greynolds, AD/CVD Operations, Office III, Enforcement and Compliance, International Trade Administration, U.S. Department of Commerce, 14th Street and Constitution Avenue NW., Washington, DC 20230; telephone: (202) 482-3797 and (202) 482-6071, respectively.

SUPPLEMENTARY INFORMATION:

Background

On October 17, 2013, Navneet Education requested that the Department conduct a CCR to determine whether it is the successor-in-interest to Navneet Publications, for purposes of determining antidumping duties due as a result of the CLPP Order.² On April 18, 2014, the Department published its Preliminary Results, in which it preliminarily determined that Navneet Education is the successor-in-interest to Navneet Publications.³ The Department invited interested parties to comment on the Preliminary Results.⁴ We received no comments or requests for a hearing from interested parties.

² See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

³ See Preliminary Results, 79 FR at 21898.

⁴ Id.

Scope of the Order

The merchandise covered by the CLPP Order is certain lined paper products, typically school supplies (for purposes of this scope definition, the actual use of or labeling these products as school supplies or non-school supplies is not a defining characteristic) composed of or including paper that incorporates straight horizontal and/or vertical lines on ten or more paper sheets (there shall be no minimum page requirement for looseleaf filler paper). The products are currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁵

⁵ For a complete description of the scope of the CLPP Order, see the memorandum from Christian Marsh, Deputy Assistant Secretary for Antidumping and Countervailing Duty Operations, to Paul Piquado, Assistant Secretary for Enforcement and Compliance, “Decision Memorandum for Preliminary Results of Changed Circumstances Review: Certain Lined Paper Products from India” (Preliminary Decision Memorandum), dated concurrently with the Preliminary Results.

Final Results of Changed Circumstances Review

Because no parties submitted comments opposing the Department's Preliminary Results, and because there is no other information or evidence on the record that calls into question the Preliminary Results, the Department determines that Navneet Education is the successor-in-interest to Navneet Publications for the purpose of determining antidumping duty liability.

Instructions to U.S. Customs and Border Protection

As a result of this determination, we find that Navneet Education should receive the cash deposit rate previously assigned to Navneet Publications in the most recently completed review of the antidumping duty order on certain lined paper products from India. Consequently, the Department will instruct U.S. Customs and Border Protection to collect estimated antidumping duties for all shipments of subject merchandise exported by Navneet Education and entered, or withdrawn from warehouse, for consumption on or after the publication date of this notice in the Federal Register at the current cash deposit rate for Navneet Publications, which is de minimis.⁶ This cash deposit requirement shall remain in effect until further notice.

⁶ See Certain Lined Paper Products from India: Final Results of Antidumping Duty Administrative Review; 2011-2012, 79 FR 26205, 26206 (May 7, 2014).

Notification

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b)(1) and 777(i) of the Tariff Act of 1930, as amended, and 19 CFR 351.216(e).

Dated: June 18, 2014.
Ronald K. Lorentzen,
Acting Assistant Secretary for Enforcement and Compliance.

[FR Doc. 2014-14705 Filed 6-23-14; 8:45 am]

BILLING CODE 3510-DS-P